DEPARTMENT OF ENERGY

Federal Energy Regulatory Commission

[Docket No. RP09-756-000]

Texas Eastern Transmission, LP; Notice of Filing of Temporary Waiver Request

June 8, 2009.

Take notice that on June 5, 2009, pursuant to Rule 207 of the Rules of Practice and Procedure of the Federal Energy Regulatory Commission, 18 CFR 385.207(a)(5) (2008), Texas Eastern Transmission, LP (Texas Eastern) filed a petition for temporary waivers of the Applicable Shrinkage Adjustment (ASA) fuel percentage and section 15.2(C) of the General Terms and Conditions (GT&C) of its FERC Gas Tariff related to service provided on Texas Eastern's Main Pass offshore system during a planned maintenance outage on that system next month. Texas Eastern requests any additional waivers of Texas Eastern's FERC Gas Tariff and the Commission's regulations that are necessary for Texas Eastern to implement the proposal described therein.

Texas Eastern states that these waivers are necessary to maximize the ability of producers connected to a 25-mile portion of its Main Pass offshore system located upstream of the proposed work area to continue to maintain production during the outage period. Texas Eastern states that the temporary waivers requested herein would be effective for a period of approximately one month during July and August this summer while Texas Eastern performs the required maintenance work.

Texas Eastern respectfully requests that the Commission expedite action on this Petition and grant the waiver requested herein by June 19, 2009. In light of this request for expedited action, Texas Eastern requests that the Commission shorten the notice period to one week from the date of this filing.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment due date. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Friday, June 12, 2009.

Kimberly D. Bose,
Secretary.

[FR Doc. E9-13959 Filed 6-12-09; 8:45 am]

BILLING CODE 6717-01-P